FEDERAL COMMUNICATIONS COMMISSION

Performance Review Board

As required by the Civil Service Reform Act of 1978 (Pub. L. 95-454), Chairman Michael K. Powell appointed the following executives to the Performance Review Board: Renee Licht, Jane Mago, Mary Beth Richards, and David Solomon.

Federal Communications Commission.
Magalie Roman Salas,
Secretary.

[FR Doc. 01-27782 Filed 11-5-01; 8:45 am]

BILLING CODE 6712-01-P